FEDERAL COMMUNICATIONS COMMISSION

47 CFR Part 73

[DA 01-2985; MM Docket No. 01-345; RM-10344]

Radio Broadcasting Services; Wickenburg and Salome, AZ

AGENCY: Federal Communications Commission.

ACTION: Proposed rule.

SUMMARY: This document requests comments on a petition for rule making filed on behalf of Circle S Broadcasting Co., Inc., licensee of Station KWSG(FM), Wickenburg, Arizona, requesting the substitution of Channel 242C for Channel 242C3 and modification of its authorization to specify the higher class channel. Additionally, to accommodate the upgrade, petitioner also proposes the substitution of Channel 270A for vacant Channel 241A at Salome, Arizona. Channel 242C can be allotted to Wickenburg consistent with the technical requirements of the Commission's Rules at the petitioner's specified site located 24.6 kilometers (15.3 miles) west of the community at coordinates 33-54-15 NL and 112-59-02 WL. Channel 270A can be substituted for vacant Channel 241A at Salome, Arizona, at the current reference site for the existing channel at coordinates 33-46-54 NL and 113-36-42 NL. Additionally, as Wickenburg and Salome are each located within 320 kilometers (199 miles) of the U.S.-Mexico border, concurrence of the Mexican government to the proposals must be obtained.

DATES: Comments must be filed on or before February 11, 2002, and reply comments on or before February 26, 2002.

ADDRESSES: Secretary, Federal Communications Commission, Washington, DC 20554. In addition to filing comments with the FCC, interested parties should serve the petitioner's counsel, as follows: Lee Peltzman, Esq., Shainis and Peltzman, Chartered, 1850 M Street, NW., Suite 240, Washington, DC 20036.

FOR FURTHER INFORMATION CONTACT: Nancy Joyner, Mass Media Bureau, (202) 418-2180.

SUPPLEMENTARY INFORMATION: This is a synopsis of the Commission's Notice of Proposed Rule Making, MM Docket No. 01-345, adopted December 12, 2001, and released December 21, 2001. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 241A and adding Channel 270A at Salome; and removing Channel 242C3 and adding Channel 242C at Wickenburg.

Federal Communications Commission.
John A. Karousos,
Chief, Allocations Branch, Policy and Rules Division, Mass Media Bureau.

[FR Doc. 02-376 Filed 1-7-02; 8:45 am]

BILLING CODE 6712-01-P